DEPARTMENT OF TRANSPORTATION

Federal Aviation Administration

14 CFR Part 71

[Docket No. FAA-2012-0821; Airspace Docket No. 12-ASW-8]

Establishment of Class E Airspace; Beeville-Chase Field, TX

AGENCY: Federal Aviation Administration (FAA), DOT.

ACTION: Final rule, correction.

SUMMARY: This action makes a correction to the title and airspace description of a final rule published in the Federal Register of March 28, 2013. The title and airspace designation are corrected to read Beeville-Chase Field, TX.

DATES: Effective date: 0901 UTC, June 27, 2013. The Director of the Federal Register approves this incorporation by reference action under 1 CFR Part 51, subject to the annual revision of FAA Order 7400.9 and publication of conforming amendments.

FOR FURTHER INFORMATION CONTACT: Scott Enander, Central Service Center, Operations Support Group, Federal Aviation Administration, Southwest Region, 2601 Meacham Blvd., Fort Worth, TX 76137; telephone (817) 321-7716.

SUPPLEMENTARY INFORMATION:

History

Federal Register document FAA 2012-0821, Airspace Docket No. 12-ASW-8, establishes Class E Airspace at Chase Field Industrial Airport, Beeville, TX (78 FR 18801, March 28, 2013). Subsequent to publication, the FAA found that existing controlled airspace already is charted for another airport at Beeville, TX, with the same descriptor. Since there can only be one Beeville, TX, the title and airspace designation for Chase Field Industrial Airport is changed from Beeville, TX, to Beeville-Chase Field, TX. This correction is related to published aeronautical charts that are essential to the user, and provide for the safe and efficient use of the navigable airspace. Class E airspace designations are published in paragraph 6005 of FAA Order 7400.9W dated August 8, 2012, and effective September 15, 2012, which is incorporated by reference in 14 CFR 71.1. The Class E airspace designation listed in this document will be published subsequently in the Order.

Correction to Final Rule

Accordingly, pursuant to the authority delegated to me, on page 18801, column 2, line 14, the title as published in the Federal Register of March 28, 2013 (78 FR 18801) FR Doc. 2013-06913, is corrected to read “ . . . Beeville-Chase Field, TX”; and on page 18802, column 1, line 31, the legal description is changed as follows:

* * * * *

ASW TX E5 Beeville-Chase Field, TX [Corrected]

Chase Field Industrial Airport, TX

(Lat. 28°21′36″ N., long. 97°39′36″ W.)

That airspace extending upward from 700 feet above the surface within a 6.8-mile radius of Chase Field Industrial Airport.

Issued in Fort Worth, Texas, on May 15, 2013.
David P. Medina,
Manager Operations Support Group, ATO Central Service Center.

[FR Doc. 2013-12482 Filed 5-24-13; 8:45 am]

BILLING CODE 4910-13-P